DEPARTMENT OF HOMELAND SECURITY

Federal Emergency Management Agency

[Docket ID FEMA-2017-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of June 7, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: April 25, 2017.
Roy E. Wright,
Deputy Associate Administrator for Insurance and Mitigation, Department of Homeland Security, Federal Emergency Management Agency.

I. Watershed-based studies:

Community | Community map repository address
Upper Ocmulgee Watershed
Butts County, Georgia and Incorporated Areas
Docket No.: FEMA-B-1551
City of Flovilla | Butts County Community Services Department, 625 West 3rd Street, Suite 3, Jackson, GA 30233.
City of Jackson | Butts County Community Services Department, 625 West 3rd Street, Suite 3, Jackson, GA 30233.
City of Jenkinsburg | Butts County Community Services Department, 625 West 3rd Street, Suite 3, Jackson, GA 30233.
Unincorporated Areas of Butts County | Butts County Community Services Department, 625 West 3rd Street, Suite 3, Jackson, GA 30233.
Jasper County, Georgia and Incorporated Areas
Docket No.: FEMA-B-1551
Unincorporated Areas of Jasper County | Jasper County Courthouse, Planning and Zoning Department, 126 West Greene Street, Suite 17, Monticello, GA 31064.
Jones County, Georgia and Incorporated Areas
Docket No.: FEMA-B-1551
City of Gray | Jones County Planning and Zoning Department, 166 Industrial Boulevard, Gray, GA 31032.
Unincorporated Areas of Jones County | Jones County Planning and Zoning Department, 166 Industrial Boulevard, Gray, GA 31032.
Macon-Bibb County, Georgia (Consolidated Government)
Docket No.: FEMA-B-1551
Macon-Bibb County (Consolidated Government) | Macon-Bibb County Engineer's Office, 780 3rd Street, Macon, GA 31201.
Monroe County, Georgia and Incorporated Areas
Docket No.: FEMA-B-1551
City of Forsyth | City Hall, 26 North Jackson Street, Forsyth, GA 31029.
Unincorporated Areas of Monroe County | Board of Commissioners Building, 38 West Main Street, Forsyth, GA 31029.
Spalding County, Georgia and Incorporated Areas
Docket No.: FEMA-B-1551
City of Griffin | City Hall, 100 South Hill Street, Griffin, GA 30223.
City of Orchard Hill | Orchard Hill City Hall, 2972 Macon Road, Griffin, GA 30224.
Unincorporated Areas of Spalding County | Spalding County Community Development Center, 119 East Solomon Street, Suite 203, Griffin, GA 30223.
James Headwaters Watershed
Eddy County, North Dakota and Incorporated Areas
Docket No.: FEMA-B-1547
City of New Rockford | City Hall, 117 1st South, New Rockford, ND 58356.
Unincorporated Areas of Eddy County | Eddy County Courthouse, 524 Central Avenue, New Rockford, ND 58356.
Stutsman County, North Dakota and Incorporated Areas
Docket No.: FEMA-B-1547
City of Jamestown | City Hall, 102 3rd Avenue Southeast, Jamestown, ND 58401.
Unincorporated Areas of Stutsman County | Stutsman County Courthouse, 511 2nd Avenue Southeast, Jamestown, ND 58401.

II. Non-watershed-based studies:

Community | Community map repository address
Jackson County, Arkansas and Incorporated Areas
Docket No.: FEMA-B-1551
City of Amagon | City Hall, 209 Amagon Avenue, Amagon, AR 72005.
City of Campbell Station | Campbell Station City Hall, 5005 Keeter Circle, Tuckerman, AR 72473.
City of Diaz | City Hall, 3401 South Main Street, Diaz, AR 72043.
City of Newport | City Hall, 615 Third Street, Newport, AR 72112.
City of Swifton | City Hall, 101 Highway 67 South, Swifton, AR 72471.
City of Tuckerman | City Hall, 200 West Main Street, Tuckerman, AR 72473.
City of Tupelo | City Hall and Community Building, 32 Pecan Circle, Tupelo, AR 72169.
Town of Beedeville | Town Hall, 121 McFaddin Street, Beedeville, AR 72014.
Town of Grubbs | City Hall, 420 North Main Street, Grubbs, AR 72431.
Town of Jacksonport | Town Hall, 304 Avenue Street, Jacksonport, AR 72075.
Town of Weldon | Fire Station, 1125 Highway 17 South, Weldon, AR 72112.
Unincorporated Areas of Jackson County | Jackson County Office of Emergency Management, 3405 South Main Street, Diaz, AR 72043.
Clayton County, Georgia and Incorporated Areas
Docket No.: FEMA-B-1539
City of Forest Park | City Hall, 745 Forest Parkway, Forest Park, GA 30297.
City of Jonesboro | City Hall, 124 North Avenue, Jonesboro, GA 30236.
City of Lake City | City Hall, 5455 Jonesboro Road, Lake City, GA 30260.
City of Lovejoy | City Hall, 2296 Talmadge Road, Lovejoy, GA 30250.
City of Morrow | Clayton County Water Authority, 1600 Battle Creek Road, Morrow, GA 30260.
City of Riverdale | City Hall, 7200 Church Street, Riverdale, GA 30274.
Unincorporated Areas of Clayton County | Clayton County Water Authority, 1600 Battle Creek Road, Morrow, GA 30260.
Erie County, Pennsylvania (All Jurisdictions)
Docket No.: FEMA-B-1601
Borough of Lake City | Borough Building, 2350 Main Street, Lake City, PA 16423.
City of Erie | Mayor's Office, 626 State Street, Room 500, Erie, PA 16501.
Township of Fairview | Township Building, 7471 McCray Road, Fairview, PA 16415.
Township of Girard | Township Building, 10140 Ridge Road, Girard, PA 16417.
Township of Harborcreek | Township Building, 5601 Buffalo Road, Harborcreek, PA 16421.
Township of Lawrence Park | Lawrence Park Township Building, 4230 Iroquois Avenue, Erie, PA 16511.
Township of Millcreek | Millcreek Township Municipal Building, 3608 West 26th Street, Erie, PA 16506.
Township of North East | Township Building, 10300 West Main Road, North East, PA 16428.
Township of Springfield | Springfield Township Building, 13300 Ridge Road, West Springfield, PA 16443.
Collin County, Texas and Incorporated Areas
Docket No.: FEMA-B-1264 and FEMA-B-1471
City of Allen | City Hall, 305 Century Parkway, Allen, TX 75013.
City of Frisco | George A. Purefoy Municipal Center, 6101 Frisco Square Boulevard, 3rd Floor, Frisco, TX 75034.
City of McKinney | Engineering Department, 221 North Tennessee Street, McKinney, TX 75069.
City of Plano | City Hall, Engineering Department, 1520 K Avenue, Plano, TX 75074.
City of Richardson | Civic Center/City Hall, 411 West Arapaho Road, Room 204, Richardson, TX 75080.
Unincorporated Areas of Collin County | Collin County Engineering Department, 4690 Community Avenue, Suite 200, McKinney, TX 75071.

[FR Doc. 2017-10187 Filed 5-18-17; 8:45 am]

BILLING CODE 9110-12-P